DEPARTMENT OF AGRICULTURE

Grain Inspection, Packers and Stockyards Administration

9 CFR Part 201

RIN 0580-AA99

Weighing, Feed, and Swine Contractors

AGENCY: Grain Inspection, Packers and Stockyards Administration, USDA.

ACTION: Proposed rule; notice of reopening of comment period.

SUMMARY: We published a notice of proposed rulemaking in the Federal Register on February 11, 2008 (73 FR 7686), asking for comments on proposed amendments to four existing scales and weighing regulations issued under the Packers and Stockyards Act (P&S Act). The notice provided an opportunity for interested parties to submit written comments to Grain Inspection, Packers and Stockyards Administration (GIPSA) until April 11, 2008. In response to a request from the poultry industry, we are reopening and extending the comment period to provide interested parties with additional time in which to comment.

DATES: The comment period for the proposed rule published at 73 FR 7686, February 11, 2008, which originally closed on April 11, 2008, is reopened and extended through May 21, 2008. We will consider comments that we receive by May 21, 2008.

ADDRESSES: We invite you to submit comments on this notice of proposed rulemaking. You may submit comments by any of the following methods:

• E-Mail: Send comments via electronic mail to comments.gipsa@usda.gov.

• Mail: Send hardcopy written comments to Tess Butler, GIPSA, USDA, 1400 Independence Avenue, SW., Room 1643-S, Washington, DC 20250-3604.

• Fax: Send comments by facsimile transmission to: (202) 690-2755.

• Hand Delivery or Courier: Deliver comments to: Tess Butler, GIPSA, USDA, 1400 Independence Avenue, SW., Room 1643-S, Washington, DC 20250-3604.

• Federal eRulemaking Portal: Go to http://www.regulations.gov. Follow the online instructions for submitting comments.

• Instructions: All comments should make reference to the date and page number of the February 11, 2008, issue of the Federal Register. [73 FR 7686]

• Read Comments: All comments will be available for public inspection in the above office during regular business hours (7 CFR 1.27(b)).

FOR FURTHER INFORMATION CONTACT: S. Brett Offutt, Director, Policy and Litigation Division, P&SP, GIPSA, 1400 Independence Avenue, SW., Washington, DC 20250-3646, (202) 720-7363, s.brett.offutt@usda.gov.

SUPPLEMENTARY INFORMATION: GIPSA published a notice of proposed rulemaking in the Federal Register on February 11, 2008 (73 FR 7686), seeking public comment on proposed amendments to 9 CFR part 201. The comment period of 60 days from the date of publication closed on April 11, 2008. GIPSA has received a request from the poultry industry to provide interested parties additional time to comment. In response, the comment period is reopened for an additional 30-day period. Any comments submitted after the close of the original comment period on April 11, 2008, but prior to the date of publication of this notice in the Federal Register will also be considered. All comments submitted between February 11, 2008 and May 21, 2008 will be considered.

Dated: April 14, 2008.
Alan Christian,
Acting Administrator, Grain Inspection, Packers and Stockyards Administration.

[FR Doc. E8-8554 Filed 4-18-08; 8:45 am]

BILLING CODE 3410-KD-P